DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with August anniversary dates. In accordance with Commerce's regulations, we are initiating those administrative reviews.

DATES: Applicable October 6, 2020.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with August anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Initiation of Reviews

In accordance with 19 CFR 351.221(c)(1)(i), we are initiating administrative reviews of the following AD and CVD orders and findings. We intend to issue the final results of these reviews not later than August 31, 2021.

| Period to be reviewed
AD Proceedings
INDIA: Finished Carbon Steel Flanges, A-533-871 | 8/1/19-7/31/20
Adinath International
Aditya Forge Limited
Allena Group
Alloyed Steel
Balkrishna Steel Forge Pvt. Ltd.
Bansidhar Chiranjilal
Bebitz Flanges Works Private Limited
C. D. Industries
CHW Forge
CHW Forge Pvt. Ltd.
Citizen Metal Depot
Corum Flange
DN Forge Industries
Echjay Forgings Limited
Falcon Valves and Flanges Private Limited
Heubach International
Hindon Forge Pvt. Ltd.
Jai Auto Pvt. Ltd.
Kinnari Steel Corporation
Mascot Metal Manufacturers
M F Rings and Bearing Races Ltd.
Munish Forge Private Limited
Norma (India) Ltd.
OM Exports
Punjab Steel Works
Raaj Sagar Steels
Ravi Ratan Metal Industries
R. D. Forge
R.N. Gupta & Co. Ltd.
Rolex Fittings India Pvt. Ltd.
Rollwell Forge Engineering Components and Flanges
Rollwell Forge Pvt. Ltd.
SHM (ShinHeung Machinery)
Siddhagiri Metal & Tubes
Sizer India
Steel Shape India
Sudhir Forgings Pvt. Ltd.
Tirupati Forge Pvt. Ltd.
Uma Shanker Khandelwal & Co.
Umashanker Khandelwal Forging Limited
USK Export Private Limited
JAPAN: Tin Mill Products, A-588-854 | 8/1/19-7/31/20
Hanwa Co., Ltd.
Hitachi Metals, Ltd.
JFE Shoji Trade Corporation
Mitsui & Co., Ltd.
Nippon Steel Trading Corporation
Sanyo Electric Co., Ltd.
Sumisho Metalex Corporation
Sumitomo Corporation Global Metals Co., Ltd.
Toyota Tsusho Corporation
MALAYSIA: Polyethylene Retail Carrier Bags, A-557-813 | 8/1/19-7/31/20
Euro SME Sdn Bhd
MEXICO: Light-Walled Rectangular Pipe and Tube, A-201-836 | 8/1/19-7/31/20
Aceros Cuatro Caminos S.A. de C.V.
Arco Metal S.A. de C.V.
Fabricaciones y Servicios de Mexico
Galvak, S.A. de C.V.
Grupo Estructuras y Perfiles
Industrias Monterrey S.A. de C.V.
Internacional de Aceros, S.A. de C.V.
Maquilacero S.A. de C.V.
Nacional de Acero S.A. de C.V.
PEASA-Productos Especializados de Acero
Perfiles LM, S.A. de C.V.
Productos Laminados de Monterrey S.A. de C.V.
Regiomontana de Perfiles y Tubos S.A. de C.V.
Regiomontana de Perfiles y Tubos S. de R.L. de C.V.
Talleres Acero Rey S.A. de C.V.
Ternium Mexico S.A. de C.V.
Tuberias Aspe S.A de C.V.
Tuberia Laguna, S.A. de C.V.
Tuberias y Derivados S.A. de C.V.
REPUBLIC OF KOREA: Dioctyl Terephthalate, A-580-889 | 8/1/19-7/31/20
Aekyung Petrochemical
LG Chem, Ltd.
REPUBLIC OF KOREA: Large Power Transformers, A-580-867 | 8/1/19-7/31/20
Hyosung Heavy Industries Corporation
Hyundai Electric & Energy Systems Co., Ltd.
ILJIN
Iljin Electric Co., Ltd.
LSIS Co., Ltd.
REPUBLIC OF KOREA: Low Melt Polyester Staple Fiber, A-580-895 | 8/1/19-7/31/20
Toray Advanced Materials Korea, Inc.
ROMANIA: Certain Small Diameter Carbon and Alloy Seamless Standard, Line and Pressure Pipe, A-485-805 | 8/1/19-7/31/20
ArcelorMittal Tubular Products Roman S.A.
SC TMK-Artrom S.A.
Kurvers Piping Italy S.R.L.
Silcotub S.A.
SOCIALIST REPUBLIC OF VIETNAM: Certain Frozen Fish Fillets, A-552-801 | 8/1/19-7/31/20
An Giang Fisheries Import and Export Joint Stock Company (aka Agifish, AnGiang Fisheries Import and Export, An Giang Fisheries Import & Export Joint Stock Company)
Anchor Seafood Corp.
An Phat Import-Export Seafood Co., Ltd. (aka An Phat Seafood Co. Ltd. or An Phat Seafood Co., Ltd.)
Anvifish Joint Stock Company (aka Anvifish, Anvifish JSC, or Anvifish Co., Ltd.)
Asia Pangasius Company Limited (aka ASIA)
Basa Joint Stock Company (aka BASACO)
Ben Tre Aquaproduct Import and Export Joint Stock Company (aka Bentre Aquaproduct) Bentre Forestry and Aquaproduct Import Export Joint Stock Company (aka Bentre Forestry and Aquaproduct Import and Export Joint Stock Company)
Bien Dong Hau Giang Seafood Joint Stock Company (aka Bien Dong HG or Bien Dong Hau Giang Seafood Joint Stock Co.)
Bien Dong Seafood Company Ltd. (aka Bien Dong, Bien Dong Seafood, Bien Dong Seafood Co., Ltd., Biendong Seafood Co., Ltd., or Bien Dong Seafood Limited Liability Company)
Binh Dinh Import Export Company (aka Binh Dinh)
Cadovimex II Seafood Import-Export and Processing Joint Stock Company (aka Cadovimex II)
Cafatex Corporation (aka Cafatex)
Can Tho Animal Fishery Products Processing Export Enterprise (aka Cafatex)
Cantho Import-Export Seafood Joint Stock Company (aka CASEAMEX, Cantho Import Export Seafood Joint Stock Company, Cantho Import-Export Joint Stock Company, Can Tho Import Export Seafood Joint Stock Company, Can Tho Import-Export Seafood Joint Stock Company, or Can Tho Import-Export Joint Stock Company)
Colorado Boxed Beef Company (aka CBBC)
C.P. Vietnam Corporation
Cuu Long Fish Import-Export Corporation (aka CL Panga Fish)
Cuu Long Fish Joint Stock Company (aka CL-Fish, CL-FISH CORP, or Cuu Long Fish Joint Stock Company)
Dai Thanh Seafoods Company Limited (aka DATHACO)
East Sea Seafoods LLC or East Sea Seafoods Limited Liability Company (aka ESS LLC, ESS, ESS JVC, or East Sea Seafoods Joint Venture Co., Ltd.)
Europe Joint Stock Company (aka Europe JSC or EJS CO.)
Fatifish Company Limited (aka FATIFISH or FATIFISHCO)
GF Seafood Corp.
Go Dang An Hiep One Member Limited Company
Go Dang Ben Tre One Member Limited Liability Company
GODACO Seafood Joint Stock Company (aka GODACO, GODACO Seafood, GODACO_SEAFOOD, or GODACO Seafood J.S.C.)
Golden Quality Seafood Corporation (aka Golden Quality, GoldenQuality, or GoldenQuality Seafood Corporation)
Green Farms Seafood Joint Stock Company (aka Green Farms, Green Farms Seafood JSC, GreenFarm SeaFoods Joint Stock Company, or Green Farms Seafoods Joint Stock Company)
Hai Huong Seafood Joint Stock Company (aka HHFish, HH Fish, or Hai Huong Seafood)
Hoa Phat Seafood Import-Export and Processing J.S.C. (aka HOPAFISH, Hoa Phat Seafood Import-Export and Processing Joint Stock Company, Hoa Phat Seafood Import-Export and Processing JSC)
Hoang Long Seafood Processing Company Limited (aka HLS)
Hung Vuong Ben Tre Seafood Processing Company Limited (aka Ben Tre, HVBT, or HVBT Seafood Processing)
Hung Vuong Corporation (aka HVC or HV Corp.)
Hung Vuong Joint Stock Company
Hung Vuong Mascato Company Limited
Hung Vuong-Mien Tay Aquaculture Corporation (aka HVMT or Hung Vuong Mien Tay Aquaculture Joint Stock Company)
Hung Vuong-Sa Dec Co., Ltd. (aka Hung Vuong Sa Dec Company Limited)
Hung Vuong Seafood Joint Stock Company
Hung Vuong-Vinh Long Co. Ltd. (aka Hung Vuong Vinh Long Company Limited)
Indian Ocean One Member Company Limited (aka Indian Ocean Co., Ltd.)
International Development & Investment Corporation (aka IDI or International Development and Investment Corporation)
Lian Heng Investment Co., Ltd. (aka Lian Heng or Lian Heng Investment)
Lian Heng Trading Co., Ltd. (aka Lian Heng or Lian Heng Trading)
Nam Viet Corporation (aka NAVICO)
Nam Phuong Seafood Co., Ltd. (aka Nam Phuong, or NAFISHCO)
New Food Import, Inc.
Nha Trang Seafoods, Inc. (aka Nha Trang Seafoods, Nha Trang Seafoods-F89, or Nha Trang Seaproduct Company)
NTACO Corporation (aka NTACO)
NTSF Seafoods Joint Stock Company (aka NTSF or NTSF Seafoods)
PREFCO Distribution, LLC
QMC Foods, Inc
QVD Dong Thap Food Co., Ltd. (aka Dong Thap or QVD DT)
QVD Food Company Ltd. (aka QVD, QVD Food Co., Ltd., or QVD Aquaculture)
Riptide Foods
Seafood Joint Stock Company No. 4 (aka SEAPRIEXCO No. 4)
Seafood Joint Stock Company No. 4 Branch Dongtam Fisheries Processing Company (aka DOTASEAFOODCO or Seafood Joint Stock Company No. 4—Branch Dong Tam Fisheries Processing Company)
Seavina Joint Stock Company (aka Seavina)
Southern Fishery Industries Company, Ltd. (aka South Vina)
Thanh Binh Dong Thap One Member Company Limited (aka Thanh Binh Dong Thap or Thanh Binh Dong Thap Ltd.)
Thanh Hung Co., Ltd. (aka Thanh Hung Frozen Seafood Processing Import Export Co., Ltd.)
Thien Ma Seafood Co., Ltd (aka THIMACO)
The Great Fish Company, LLC
Thuan An Production Trading and Service Co., Ltd. (aka TAFISHCO)
Thuan Hung Co., Ltd. (aka THUFICO)
To Chau Joint Stock Company (aka TOCHAU, TOCHAU JSC, or TOCHAU Joint Stock Company)
Van Duc Food Export Joint Stock Company (aka Van Duc)
Van Duc Tien Giang Food Export Company (aka VDTG)
Viet Hai Seafood Company Limited (aka Viet Hai)
Viet Phu Foods and Fish Corporation (aka Vietphu)
Viet Phu Foods & Fish Co., Ltd.
Vietnam Seaproducts Joint Stock Company (aka Seaprodex or Vietnam Seafood Corporation—Joint Stock Company)
Vinh Hoan Corporation (aka Vinh Hoan, Vinh Hoan Co., or Vinh Hoan Corp.)
Vinh Long Import-Export Company (aka Vinh Long)
Vinh Quang Fisheries Corporation (aka Vinh Quang, Vinh Quang Fisheries Corp., Vinh Quang Fisheries Joint Stock Company, or Vinh Quang Fisheries Co., Ltd.)
SPAIN: Ripe Olives, A-469-817 | 8/1/19-7/31/20
Aceitunas Guadalquivir, S.L.
Agro Sevilla Aceitunas S.Coop. And.
Alimentary Group Dcoop S. Coop. And.
Angel Camacho Alimentacion, S.L.
Internacional Olivarera, S.A.
THAILAND: Steel Propane Cylinders, A-549-839 | 12/27/18-7/31/20
Sahamitr Pressure Container Plc. (also known as, Sahamitr Pressure Container Public Company Limited)
THE PEOPLE'S REPUBLIC OF CHINA: Certain Passenger Vehicle and Light Truck Tires, A-570-016 | 8/1/19-7/31/20
Giti Radial Tire (Anhui) Company Ltd.
Giti Tire (Fujian) Company Ltd.
Giti Tire (Hualin) Company Ltd.
Giti Tire Global Trading Pte. Ltd.
Haohua Orient International Trade Ltd.
Prinx Chengshan (Shandong) Tire Company Ltd.
Qingdao Fullrun Tyre Tech Corp., Ltd.
Qingdao Landwinner Tyre Co., Ltd.
Qingdao Lakesea Tyre Co., Ltd.
Qingdao Nexen Tire Corporation
Qingdao Sentury Tire Co. Ltd.
Riversun Industry Limited
Safe & Well (HK) International Trading Limited
Sailun Group (HongKong) Co., Limited. (Sailun HK), formerly known as Sailun Jinyu Group (Hong Kong) Co., Limited. (Sailun Jinyu HK)
Sailun Group Co., Ltd. (Sailun Group), formerly known as Sailun Jinyu Group Co., Ltd. (Sailun Jinyu)
Sailun Tire Americas Inc., formerly known as SJI North America Inc.
Sailun Tire International Corp
Shandong Guofeng Rubber Plastics Co., Ltd.
Shandong Linglong Tyre Co., Ltd.
Shandong New Continent Tire Co., Ltd.
Shandong Province Sanli Tire Manufacture Co., Ltd.
Shandong Qilun Rubber Co., Ltd
Shandong Wanda Boto Tyre Co., Ltd.
Shouguang Firemax Tyre Co., Ltd.
Sumitomo Rubber (Changshu) Co., Ltd.
Sumitomo Rubber (Hunan) Co. Ltd.
Windforce Tyre Co., Limited
Zhaoqing Junhong Co., Ltd.
THE PEOPLE'S REPUBLIC OF CHINA: Certain Steel Nails, A-570-909 | 8/1/19-7/31/20
ARaymond Automotive Fasteners
Achbest Company Ltd.
Air Tiger Express (Asia) Inc.
A-Jax Enterprises Ltd.
Alfa Marine (Shanghai) Co., Ltd
Alltrade Pacific Co., Ltd.
Am Global Shipping Lines Co., Ltd.
American Ocean Maritime Inc.
Apex Maritime (Ningbo) Co., Ltd.
Aplix Shanghai Fasteners
Arvid Nilsson Logistics & Trade (Shanghai) Co., Ltd
Astrotech Steels Pvt. Ltd.
Auto Way Wuxi Casting Industry Co
Beijing Catic Industry Limited
Beijing Century Joyo Courier Service
Beijing Jinheung Co., Ltd
Beijing Kang Jie Kong International Cargo Agent Co., Ltd.
Beijing MMCC Ltd.
Bollore Logistics China Co., Ltd Nanjing Branch
Bollore Logistics China Co., Ltd Tianjin Branch
Bonuts Hardware Logistics
Brilliant Group Logistics Corp.
Brilliant Logistics Group Inc.
C.H. Robinson Freight Services (China)
C.H. Robinson Freight Services China Ltd. Ningbo Branch
Caesar Shipping Logistics Co., Ltd.
Cana (Rizhao) Hardware Co. Ltd.
Cangzhou Xinqiao International Trade Co. Ltd.
Cargo Services (Tianjin) Co., Ltd.
Carotrans
Cas International Co., Ltd
Casia Global Logistics Company Ltd.
Certified Products International Inc.
Cheng Ch International Co., Ltd.
China International Freight (China) Ltd. Tianjin Branch
China International Freight Co. Ltd.
China Mast Forwarders Co., Ltd.
China Sea Marine Co., Ltd
China Staple Enterprise (Tianjin) Co., Ltd.
Chinatrans International Limited
Chinatrans International Limited (China) Ltd. Tianjin Branch
City Ocean Logistics Co., Ltd.
Clearfreight Shanghai Limited
CN Worldwide International Freight Forwarding (Shanghai) Ltd.
Cosco International Freight Company
CRSA Global Logistics (Shanghai) Co.
CTS International Logistics Corporation Limited
D&F Material Products Ltd.
Daejin Steel Co. Ltd.
Dalian Dragon Star Imp. & Exp. Co., Ltd
Dalian Wanxiang International Trade Co., Ltd
Damco China Limited (Dongguan Forta Electronics Co. Ltd.)
Damco China Limited Ningbo Branch
Damco China Limited Qingdao Branch
Damco China Limited Shenzhen Branch
Damco Shenzhen
De Fasteners Inc.
Dezhou Hualude Hardware Products Co
DHL Global Forwarding (China) Co., Ltd. Tianjin Branch
Doublemoon Hardware Company Ltd
Dsv Air & Sea Co., Ltd (Tianjin)
Dynamic Network Container Line Ltd
E Cargoway Logistics Co. Ltd.
Eastrong International Logistics Co.
Eclat Int'l Co., Ltd.
Eco-Friendly Floor Ltd.
ECO System Corporation
Ejen Brothers Limited
ELG Logistic
Essentra Plastic Products Ningbo Co.
Eternity Int'l Freight Forwarder
E-Top Shipping Co., Ltd
Eumex Line Shenzhen Limited
Evergreen Global
Everscene Logistics Company Limited
Everstar Logistics Co., Ltd.
Faithful Engineering Products Co., Ltd.
Fastgrow International Co., Inc.
Fastic Shipping Co., Ltd.
Fedex International Freight
Forest Shipping International Ltd.
Foshan Hosontool Development Hardware
Fourever International Limited
Geekay Wires Limited
Gem-Duo Co., Ltd.
Gem-Year Industrial Co., Ltd.
Global Link (Shanghai) Co., Ltd.
Glori-Industry Hongkong Incorporation
Grandpac Aviation Shanghai Co. Ltd.
GTG Logistics Co., Ltd (Tianjin Branch)
Guangdong Meite Mechanical Co., Ltd.
Guangzhou Caixuan Cosmetics Co., Ltd.
Guangzhou Feixing Trading Co., Ltd.
Guangzhou Guanhong Cosmetics
Guangzhou Unigel Nails Syst
H&H International Forwarders Co., Ltd.
Haiyan Sanhuan Fasteners Co., Ltd.
Haiyan Yuanyang Standard Piece Co., Ltd.
Hangzhou Jiefa Materials Co., Ltd
Hebei Airsea Logistics Ltd.
Hebei Cangzhou New Century Foreign Trade Co., Ltd.
Hebei Chunghwa Star International Trading Company Limited
Hebei Five-Star Metal Products Co., Ltd.
Hebei Metal Trading Co., Ltd.
Hebei Minghao Import &Export Co., Ltd
Hebei Minmetals Co., Ltd.
Hebei Tianfeng Metal Products Co., Ltd
Hecny Shipping Limited
Hecny Transportation (Shanghai) Ltd.
Hengtuo Metal Products Co., Ltd
Hong Kong Yu Xi Co., Ltd.
Honour Lane Shipping Limited
Honour Lane Shipping Ltd Ningbo Branch
Honour Lane Shipping Ltd Qingdao Branch
Honour Lane Shipping Ltd. Tianjin Branch
Hualin Hydraulic Nantong Co., Ltd.
Hualin Ltd.
Huanghua Rc Business Co., Ltd
Huanghua Yingjin Hardware Products
Huiwen Jiahe (Shandong) Trading Co., Ltd.
Huzhou Jiehui Import And Export Co.
IFI & Morgan Ltd.
Interglobo International Freight Co., Ltd.
J.Y. Logistics Co., Ltd.
Jade Shuttle Enterprise Co. Ltd.
JCD Group Company Limited
Jeter Shipping Guangzhou Limited
Jiangsu Cheda Auto Accessories Co, Ltd.
Jiangsu Globe Logistics Ltd., Co.
Jiangsu Globe Logistics Ltd., Co., Tianjin Branch
Jiangsu Soho Honry Import & Export Co.
Jiarong Enterprises Co., Ltd.
Jiaxing Haijin Hardware Technology
Jiaxing Innofast Trading Co., Ltd.
Jiaxing Port Lixin Fasteners Co., Ltd
Jiaxing TSR Hardware Inc.
Jiele Construction Materials
Jinan High Strength Standard Pa Co., Ltd.
Jinan Jinbao Plastic Co., Ltd.
Jinan Zhongchuan Equipment Co., Ltd.
Jinhai Hardware Co., Ltd.
Jinheung Steel Corporation
Jinsco International Corp.
Jushiqiangsen (Tianjin)International
K-Apex International Freight (Ningbo) Co., Ltd.
K-Apex Logistics (Nanjing) Co., Ltd.
K-Apex Logistics (Qingdao) Co., Ltd.
K-Apex Logistics (Shanghai) Co., Ltd
K-Apex Logistics (Tianjin) Co., Ltd.
King Freight International Corp.
Kingshadow Co., Limited
Kingteam Precision Technology Co., Ltd.
Kintetsu World Express (China) Co.
Koram Inc.
Koram Steel Co., Ltd.
Korea Wire Co., Ltd.
Ko's Nail Incorporation
Kuehne & Nagel Ltd
Kuehne & Nagel Ltd Ningbo Branch Office
Kuehne & Nagel Ltd Tianjin Branch
Kuraray Magictape Shanghai Co Ltd
Lf Logistics (China) Co., Ltd.
Li Ya Xuan Furniture Factory
Liangmei Furniture Factory
Linkswork Logistics Limited
Linqing Huawei Bearing Co., Ltd.
Linyi Andi Supply Chain Co., Ltd.
Linyi Compass Supply Chain Co., Ltd
Linyi Flying Arrow Imp. & Exp. Co., Ltd.
Linyi Jianchengde Metal Hardware Co.
Linyi Vega Trading Co., Ltd.
Linyi Wan Gong Industry & Trade Co., Ltd.
Lishui Hongda Industry Co., Ltd
M+R Forwarding (China) Ltd.
M+R Forwarding (China) Ltd. Tianjin
Madison Shanghai Trading Co., Ltd.
Mallory Alexander (Asia Pacific)
Master International Logistics China Co., Ltd.
Maxwide Logistics Inc.
MB Logistics International Cn Ltd.
Mingguang Abundant Hardware Products Co. Ltd.
Mingguang Ruifeng Hardware Products
Morito Scovill HK Co., Ltd.
Nailtech Co. Ltd.
Nanjing Caiqing Hardware Co., Ltd
Nanjing North Star Intl Freight Forwarder Co Ltd
Nanjing Nuochun Hardware Co., Ltd.
Nanjing Toua Hardware & Tools Co. Ltd.
Nanjing Yuechang Hardware Co., Ltd.
Neptune Shipping Limited
New Chain Logistics Co., Ltd
New Line Industry Company Limited
New Pole Power System Co Ltd
Nightingale Global Co., Ltd
Ningbo Beilun Xiangzi Imp&Exp Co., Ltd.
Ningbo Cosmos International Logistics
Ningbo Echoes International Trading Co., Ltd.
Ningbo Etdz Holdings Ltd
Ningbo Giftyland Co., Limited
Ningbo Haishu Ling Lang Trade Co., L
Ningbo Haitian Holding Group Co., Ltd.
Ningbo Hyderon Hardware Co., Ltd
Ningbo Kaili International Trading
Ningbo Kan Grow Bags Co., Ltd
Ningbo Langyi Metal Products Co., Ltd.
Ningbo Nd Imp. & Exp., Co., Ltd.
Ningbo Panxiang Imp & Exp Co., Ltd.
Ningbo Port Southeast Logistics Gro
Ningbo Shixun Import & Export Co., Ltd.
Ningbo Skycan Mold Manufacturing Ltd.
Ningbo Tianqi Ecommerce Co Ltd
Ningbo Truepower Import & Export Co., Ltd.
Ningbo United Group Import & Export Co., Ltd.
Ningbo Wepartner Import & Export Company Limited
Ningbo Winjoy Intl Trading Co.
Ningbo Winpex Imp & Exp Co., Ltd.
Ningbo Yanyi Trade Co Ltd
Ningbo Yinzhou Angelstar (International Trading) Co., Ltd.
Ningbo Yinzhou Wintie Auto Parts Co
Ningbo Zhenda Stationery Co., Ltd.
Ninghai Rayguang Horsemanship Products Co., Ltd
Ocean Industrial Co Limited
Ocean King Industries Limited
OEC Logistics (Qingdao) Co., Ltd
OEC Logistics (Qingdao) Co., Ltd, Tianjin Branch
OEC Logistics (Qingdao) Co., Ltd. (Dalian Branch)
One Touch Share Co., Limited
Ong Ming Enterprise Co., Ltd.
OOCL Logistics (China) Limited
Orient Express Container Co., Ltd
Orient Express Container Co., Ltd. Shenzhen Branch
Orient Star Transport International
Oriental Air Transport Service Inc.
Oriental Logistics Group Ltd.
Pacific Link International Freight
Pacific Star Express (China) Co., Ltd.
Packcraft Co., Ltd.
Panalpina World Transport (Prc) Ltd
Pantos Logistics (China) Co., Ltd
Parisi Grand Smooth Logistics Ltd.
Paslode Fastener (Shanghai) Co., Ltd.
Patek Tool Co., Ltd.
Peaksight (Shanghai) Technologies
Pem China Co., Ltd.
Penavico International Logistics, Co., Ltd.
Pennengineering Automotive Fasteners Kunshan Co., Ltd.
Pilot Logistics China Co., Ltd
Pino Industry Co Ltd
Prime Shipping International, Inc.
Promising Way (Hong Kong) Limited
Pro-Team Coil Nail Enterprise Inc.
Prym Consumer Ningbo Trading Limited
Pudong Prime International Logistics, Inc
Pudong Prime Int'l Logistics, Inc. (Qingdao Branch)
Qifeng Precision Industry Sci-Tech Corp.
Qingdao Ant Hardware Manufacturing Co., Ltd.
Qingdao Cheshire Trading Co., Ltd.
Qingdao D&L Group Ltd.
Qingdao Gold Dragon Co. Ltd.
Qingdao Grand Intl Co. Ltd.
Qingdao Hailifeng Rigging Co., Ltd
Qingdao Hongyuan Nail Industy Co Ltd.
Qingdao JCD Machinery Co., Ltd.
Qingdao Jisco Co., Ltd.
Qingdao Kinghood Tools Co., Ltd
Qingdao Meijialucky Industry & Commerce Co., Ltd.
Qingdao Mst Industry & Commerce Co.
Qingdao Powerful Machinery Co., Ltd.
Qingdao Qinhang International
Qingdao Shantron International
Qingdao Shenghengtong Metal Products Co., Ltd
Qingdao Sun Star International
Qingdao Tansky International, Ltd.
Qingdao Tianshi Logistics Co., Limited
Qinhuangdao Ampac Building Products
Quick Advance Inc
Region Industries Co. Ltd.
Region System Sdn. Bhd.
RMB Fasteners Limited Shanghai Rep. Office
Robertson Inc. (Jiaxing)
Rohlig China Limited Shanghai Branch
Romp Coil Nail Industries Inc.
Safround Logistic Co., Ltd
Scanwell Container Line Ltd
Schenker China Ltd.
Schenker China Ltd. Chengdu Branch
SDC International Aust. Pty. Ltd.
Seamaster Global Forwarding (China) Limited Tianjin Branch
Seamaster Global Forwarding (Shanghai)
Seasky Logistics Co. Ltd.
Shandong Dinglong Import & Export Co., Ltd.
Shandong Guomei Industry Co., Ltd
Shandong Intco Recycling Resources Co., Ltd.
Shandong Kangrong International
Shandong Oriental Cherry Hardware Group., Ltd.
Shandong Qingyun Hongyi Hardware Products Co., Ltd
Shandong Tengda Fasten Tech. Co.
Shanghai Ai Lian International Trade Co., Ltd.
Shanghai Amass Freight International
Shanghai Autocraft Co., Ltd
Shanghai Ba-Shi Yuexin Logistics Development Co., Ltd.
Shanghai Cedargreen Imp & Exp Co., Ltd
Shanghai Curvet Hardware Products Co., Ltd.
Shanghai Danube International Logistics Co., Ltd.
Shanghai E-Sky Transportation Co., Ltd
Shanghai Finigate Integrated Logistics
Shanghai Goldenbridge International
Shanghai Goro Conveyor System Components Co Ltd
Shanghai Grand Sound International Transportation Co., Ltd
Shanghai Hu Nan Foreign
Shanghai Hualin Co., Ltd
Shanghai International Trade Transportation Co., Ltd.
Shanghai Jade Shuttle Hardware Tools Co. Ltd.
Shanghai Kaijun Logistics Co., Ltd. (Shenzhen Branch)
Shanghai Kaijun Logistics Co. Ltd.
Shanghai Landa International Trade Co., Ltd.
Shanghai Lead Trans International Ltd.
Shanghai March Import Export Company Ltd.
Shanghai Nanshi Foreign Economic Co.
Shanghai Nanshi Foreign Economic Cooperation Trading Company Ltd.
Shanghai Overseas Imp. & Exp Co., Ltd
Shanghai Pudong Int'l Transportation
Shanghai Seti Enterprise Int'l Co. Ltd.
Shanghai Shenda Imp. & Exp. Co., Ltd
Shanghai Solex Express Inc.
Shanghai Speedier Logistics Co., Ltd
Shanghai Sutek Industries Co., Ltd.
Shanghai Television & Electronics Import & Export Co., Ltd.
Shanghai Textile Raw Materials Co., Ltd.
Shanghai Tianshi Logistics Co., Ltd
Shanghai Worldtrans Logistics Services Limited
Shanghai Xuanming International
Shanghai Yueda Nails Industry Co., Ltd.
Shantou Wanli Biotechnology Co., Ltd.
Shanxi Hairui Trade Co. Ltd.
Shanxi Pioneer Hardware Industrial Co., Ltd
Shanxi Tianli Industries Co., Ltd
Shanxi Yuci Broad Wire Products Co.
Shaoxing Bohui Import & Export Co., Ltd.
Shaoxing Chengye Metal Producing Co. Ltd.
Sheenbow Pigment Technology Co., Ltd
Shenzhen Baoyuanxin Trading Co., Ltd.
Shenzhen Lucky Logistics Ltd
Shenzhen Lucky Logistics Ltd. Guangzhou Branch
Shenzhen Pacific-Net Logistics Inc.
Shenzhen Pacific-Net Logistics Inc. Shanghai Branch
Shenzhen Sea Aerosol Co., Ltd.
Shenzhen Sunray Technology Co., Ltd.
Shenzhen Xinda Tongyuan Trading Co., Ltd.
Shenzhen Xinjintai Hardware Co., Ltd.
Shenzhen Yibai Network Technology
Shenzhen Zbao Logistics Company Limited
Shijiazhuang North Ornamental Casting Products Limited Company
Shijiazhuang Shuangming Trade Co., Ltd.
Shine International Transportation Ltd.
Shipco Transport (Shanghai) Ltd., Shen Zhen Branch
Shye Chang Ningbo Precision Electronic Co. Ltd
Sino Connections Logistics Inc.
S-Mart (Tianjin) Technology Development Co., Ltd
Suntec Industries Co., Ltd.
Sunwell Industries Co., Ltd
Suzhou Jinyuan Fastener Co., Ltd
Suzhou Lantai Hardware Products
T.H.I. Group (Shanghai) Ltd.
Tag Fasteners Sdn Bhd
Tangshan Jikuang Mining Supplies Co.
Tengzhou Tri-Union Machinery Co. Ltd
Tian Heng Xiang Metal Products Co Ltd
Tianjin Baisheng Metal Products Co. Ltd.
Tianjin Coways Metal Products Co., Ltd
Tianjin Dagang Jingang Nail Factory
Tianjin Dongjiang Intl. Shipping Exchange Market
Tianjin Free Trade Service Co Ltd
Tianjin High Wing International
Tianjin Hongli Qiangsheng Import & Export Co., Ltd.
Tianjin Huixinshangmao Co. Ltd.
Tianjin Hweschun Fasteners Manufacturing
Tianjin Jin Xin Sheng Long Metal Products Co., Ltd.
Tianjin Jinchi Metal Products Co., Ltd.
Tianjin Jinghai County Hongli Industry & Business Co.
Tianjin Jinyifeng Hardware Co., Ltd
Tianjin Lianda Group Co. Ltd.
Tianjin Seungil Chem Tech Co., Ltd.
Tianjin Star Pet Tech Co., Ltd.
Tianjin Universal Machinery Imp. & Exp. Corporation
Tianjin Yinghua Arts & Crafts Co., Ltd.
Tianjin Zhonglian Metals Ware Co., Ltd
Tianjin Zhonglian Times Technology Co., Ltd.
Tianshi Logistics Co., Limited
Titan ITM (Tianjin) Co, Ltd
Toll Global Forwarding (Hong Kong)
Topocean Consolidation Service (China) Ltd.
Topocean Consolidation Service (China) Ltd. Tianjin Branch
Topocean Consolidation Service (China) Ltd., Qingdao Branch
Total Glory Logistics Co., Ltd.
Trans Knights Inc.
Trans Knights Intl Logistics (Shanghai) Co., Ltd.
Trans Wagon International China Co., Ltd.
Translink Shipping Inc.
Translink Shipping Inc Nanjing Branch
Translink Shipping Inc., Xiamen Branch
Translink Shipping Inc-Qingdao
Translink Shipping Lines—Ningbo (China) Co., Ltd.
Trans-Union International Logistics
Transwell Logistics Co., Ltd.
Triumph Link Logistics Limited
TTI Freight Forwarder Company Limited
U.S. United Logistics (Ningbo) Inc.
UBI Logistics (China) Limited
Unicorn Fasteners Co., Ltd.
Unique Logistics International (H.K.) Ltd.
UPS SCS (China) Co., Ltd. Jiangsu
UPS SCS (China) Co., Ltd Ningbo
Walkbase Rubber Products Co., Ltd.
Waxman Technology China Limited
Weida Freight System Co., Ltd
Weifang Wenhe Pneumatic Tools Co. Ltd
Whale Logistics (Shanghai) Company
World Jaguar Logistics, Inc.
Worldwide Logistics Co., Ltd.
Wuhu Diamond Metal Products Co., Ltd
Wulian Zhanpeng Metals Co
Wuxi Phoenix Artist Materials Co., Ltd.
Xi'an Metals and Minerals Imp & Exp Co., Ltd.
Xiamen Greating Logistics Company Ltd
Xiamen Jianming Rising Import & Exp
Xiamen Universe Solar Technology Co Ltd
Xinchang Xinchai Machinery Co., Ltd.
Suzhou Xingya Nail Co., Ltd.
Senco-Xingya Metal Products (Taicang) Co., Ltd.
Hong Kong Yu Xi Co., Ltd.
Omnifast Inc.
CIP International Group Co, Ltd.
Yangzhou Tongxie Weaving Co Ltd
Beijing Kang Jie Kong Int'l Cargo Ag
Youngwoo (Cangzhou) Fasteners Co., Ltd
Youngwoo Fasteners Co., Ltd.
Yusen Logistics (Shenzhen) Co., Ltd
Zhangjiagang Bo Hong Trade Co., Ltd.
Zhangjiagang Bolnut Trade Co., Ltd.
Zhangjiagang Chenjun Trade Co., Ltd.
Zhangjiagang Double-Whale Bags Mfg
Zhangjiagang Lianfeng Metals Products Co. Ltd.
Zhangjiagang Longxiang Industries Co. Ltd.
Zhaoqing Harvest Nails Co., Ltd
Zhejiang Focus-On Imp. Exp. Co.,
Zhejiang Hatehui Technology Co., Ltd
Zhejiang Hengyi Science & Technology
Zhejiang Huantai Precision Machinery Co., Ltd.
Zhejiang Laibao Precision Technology
Zhejiang Longquan Foreign Trade Co., Ltd.
Zhejiang Milestone Fastener Manufacturing Co., Ltd.
Zhejiang Rongpeng Imp & Exp Co., Ltd.
Zhejiang Sanlin Metals Products Co.
Zhejiang Yiwu Yongzhou Imp. & Exp. Co., Ltd
Zhejiang Yongzhu Casting Technology Co., Ltd.
Zhongge International Trading Co.
THE PEOPLE'S REPUBLIC OF CHINA: Hydrofluorocarbon Blends, A-570-028 | 8/1/19-7/31/20
Arkema Daikin Advanced Fluorochemicals (Changsu) Co., Ltd.
Daikin Fluorochemicals (China) Co., Ltd.
Dongyang Weihua Refrigerants Co., Ltd.
Jinhua Yonghe Fluorochemical Co., Ltd.
PureMann, Inc. (aka Pure Manna)
Shandong Huaan New Material Co., Ltd.
Sinochem Environmental Protection Chemicals (Taicang) Co., Ltd.
SRF Limited
T.T. International Co., Ltd.
Weitron International Refrigeration Equipment (Kunshan) Co., Ltd.
Zhejiang Lantian Environmental Protection Fluoro Material Co. Ltd.
Zhejiang Quzhou Lianzhou Refrigerants Co., Ltd.
Zhejiang Sanmei Chemical Industry Co., Ltd.
Zhejiang Yonghe Refrigerant Co., Ltd.
Zhejiang Zhonglan Refrigeration Technology Co., Ltd.
THE PEOPLE'S REPUBLIC OF CHINA: Light-Walled Rectangular Pipe and Tube, A-570-914 | 8/1/19-7/31/20
Hangzhou Ailong Metal Products Co., Ltd.
THE PEOPLE'S REPUBLIC OF CHINA: Polyethylene Retail Carrier Bags, A-570-886 | 8/1/19-7/31/20
Crown Polyethylene Products (International) Ltd.
Dongguan Nozawa Plastics Products Co., Ltd. and United Power
Packaging, Ltd. (collectively Nozawa)
CVD Proceedings
INDIA: Finished Carbon Steel Flanges, C-533-872 | 1/1/19-12/31/19
Adinath International
Aditya Forge Limited
Allena Group
Alloyed Steel
Balkrishna Steel Forge Pvt. Ltd.
Bansidhar Chiranjilal
Bebitz Flanges Works Private Limited
C. D. Industries
CHW Forge
CHW Forge Pvt. Ltd.
Citizen Metal Depot
Corum Flange
DN Forge Industries
Echjay Forgings Limited
Falcon Valves and Flanges Private Limited
Heubach International
Hindon Forge Pvt. Ltd.
Jai Auto Pvt. Ltd.
Kinnari Steel Corporation
Mascot Metal Manufacturers
M F Rings and Bearing Races Ltd.
Munish Forge Private Limited
Norma (India) Ltd.
OM Exports
Punjab Steel Works
Raaj Sagar Steels
Ravi Ratan Metal Industries
R. D. Forge
R.N. Gupta & Co. Ltd.
Rolex Fittings India Pvt. Ltd.
Rollwell Forge Engineering Components and Flanges
Rollwell Forge Pvt. Ltd.
SHM (ShinHeung Machinery)
Siddhagiri Metal & Tubes
Sizer India
Steel Shape India
Sudhir Forgings Pvt. Ltd.
Tirupati Forge Pvt. Ltd.
Uma Shanker Khandelwal & Co.
Umashanker Khandelwal Forging Limited
USK Export Private Limited
SPAIN: Ripe Olives, C-469-818 | 1/1/19-12/31/19
Aceitunas Guadalquivir, S.L.
Agro Sevilla Aceitunas S.Coop. And.
Alimentary Group Dcoop S. Coop. And.
Angel Camacho Alimentación, S.L.
Internacional Olivarera, S.A.
THE PEOPLE'S REPUBLIC OF CHINA: Certain Passenger Vehicle and Light Truck Tires, C-570-017 | 1/1/19-12/31/19
Giti Radial Tire (Anhui) Company Ltd.
Giti Tire Global Trading Pte. Ltd.
Giti Tire (Fujian) Company Ltd.)
Giti Tire (Hualin) Company Ltd.
Hankook Tire China Co., Ltd.
Haohua Orient International Trade Ltd.
Jiangsu Hankook Tire Co., Ltd.
Prinx Chengshan (Shandong) Tire Company Ltd.
Qingdao Fullrun Tyre Tech Corp., Ltd.
Qingdao Honghuasheng Trade Co., Ltd
Qingdao Kapsen Trade Co.
Qingdao Lakesea Tyre Co., Ltd.
Qingdao Landwinner Tyre Co., Ltd.
Riversun Industry Limited
Safe & Well (HK) International Trading Limited
Sailun Group (HongKong) Co., Limited., formerly known as Sailun Jinyu Group (Hong Kong) Co., Limited.
Sailun Group Co., Ltd., formerly known as Sailun Jinyu Group Co., Ltd.
Sailun Tire Americas Inc., formerly known as SJI North America Inc.
Sailun Tire International Corp
Shandong Guofeng Rubber Plastics Co., Ltd.
Shandong Habilead Rubber Co., Ltd.
Shandong Hongsheng Rubber Technology Co., Ltd.
Shandong Linglong Tyre Co., Ltd.
Shandong New Continent Tire Co., Ltd.
Shandong Province Sanli Tire Manufacture Co., Ltd.
Shandong Qilun Rubber Co., Ltd
Shandong Wanda Boto Tyre Co., Ltd.
Shouguang Firemax Tyre Co., Ltd.
Sumitomo Rubber (Hunan) Co. Ltd.
Triangle Tyre Co., Ltd.
Windforce Tyre Co., Limited
Zhaoqing Junhong Co., Ltd.

Suspension Agreements

None

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁵ available at https://enforcement.trade.gov/frn/2013/1304frn/2013-08227.txt, prior to submitting factual information in this segment. Note that Commerce has temporarily modified certain of its requirements for serving documents containing business proprietary information, until further notice.⁶

⁵ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁶ See Temporary Rule Modifying AD/CVD Service Requirements Due to COVID-19, 85 FR 41363 (July 10, 2020).

Any party submitting factual information in an AD or CVD proceeding must certify to the accuracy and completeness of that information using the formats provided at the end of the Final Rule.⁷ Commerce intends to reject factual submissions in any proceeding segments if the submitting party does not comply with applicable certification requirements.

⁷ See section 782(b) of the Act; see also Final Rule; and the frequently asked questions regarding the Final Rule, available at https://enforcement.trade.gov/tlei/notices/factual_info_final_rule_FAQ_07172013.pdf.

Extension of Time Limits Regulation

Parties may request an extension of time limits before a time limit established under part 351 expires, or as otherwise specified by Commerce.⁸ In general, an extension request will be considered untimely if it is filed after the time limit established under part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

⁸ See 19 CFR 351.302.

These initiations and this notice are in accordance with section 751(a) of the Act (19 U.S.C. 1675(a)) and 19 CFR 351.221(c)(1)(i).

Dated: October 1, 2020.
James Maeder,
Deputy Assistant Secretary for Antidumping and Countervailing Duty Operations.

[FR Doc. 2020-22178 Filed 10-5-20; 8:45 am]

BILLING CODE 3510-DS-P